ENVIRONMENTAL PROTECTION AGENCY

[EPA-HQ-OPP-2008-0383; FRL-8399-6]

L-Lactic Acid Registration Review Final Work Plan and Proposed Registration Review Decision; Correction

AGENCY: Environmental Protection Agency (EPA).

ACTION: Notice; correction.

SUMMARY: EPA issued a notice in the Federal Register of December 24, 2008, concerning the availability of EPA's Final Work Plan and Proposed Final Decision for the pesticide case L-Lactic Acid. This document is being issued to correct a typographical error in the name of the active ingredient L-Lactic Acid.

FOR FURTHER INFORMATION CONTACT: Andrew Bryceland, Biopesticide and Pollution Precention Division (7511P), Office of Pesticide Programs, Environmental Protection Agency, 1200 Pennsylvania Ave., NW., Washington, DC 20460-0001; telephone number: 703-305-6928; e-mail address: bryceland.andrew@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2008-0383. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Correction Do?

FR Doc. E8-30380 published in the Federal Register of December 24, 2008 (73 FR 79097) (8391-4) is corrected as follows:

The term “L-Latic Acid” is corrected to read “L-Lactic Acid” wherever it appears.

List of Subjects

Environmental protection, Registration review, Pesticides and pests, L-Lactic Acid.

Dated: January 15, 2009.
Janet L. Andersen,
Director, Biopesticide and Pollution Prevention Division, Office of Pesticide Programs.

[FR Doc. E9-1810 Filed 1-27-09; 8:45 am]

BILLING CODE 6560-50-S